DEPARTMENT OF TRANSPORTATION

Federal Railroad Administration

[Docket Number FRA-2015-0044]

Petition for Waiver of Compliance

Under part 211 of Title 49 Code of Federal Regulations (CFR), this document provides the public notice that on July 18, 2018, Siemens Industry, Inc. (Siemens) petitioned the Federal Railroad Administration (FRA) to amend its waiver of compliance from certain provisions of the Federal railroad safety regulations contained at 49 CFR 232.409(d), Inspection and Testing of End-of-Train Devices. FRA assigned the petition Docket Number FRA-2015-0044.

Siemens previously received relief from the requirements of 49 CFR 232.409(d) for two of its EOT models: Q3920 and R3930 (the dual air pipe version of Q3920). Siemens seeks additional relief from 49 CFR 232.409(d) for two new EOT models: A90385 and A90390. These two models are smaller and lighter than previous models. Both models (A90385 and A90390) use the same Ritron DTX-445 radio (exempt from periodic calibration via waiver in Docket Number FRA-2009-0015) as the previous model Q3920. Siemens states that, like the Q3920, the consistency of performance for the new EOT models (A90385 and A90390) is based on the reliability and accuracy of the Ritron DTX-445 radio. Therefore, Siemens contends that as long as the Ritron radio waiver in Docket Number FRA-2009-0015 is valid, the new Siemens EOT models (A90385 and A90390) should also be exempt from periodic calibration.

A copy of the petition, as well as any written communications concerning the petition, is available for review online at www.regulations.gov and in person at the U.S. Department of Transportation's (DOT) Docket Operations Facility, 1200 New Jersey Avenue SE, W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted by any of the following methods:

• Website: http://www.regulations.gov. Follow the online instructions for submitting comments.

• Fax: 202-493-2251.

• Mail: Docket Operations Facility, U.S. Department of Transportation, 1200 New Jersey Avenue SE, W12-140, Washington, DC 20590.

• Hand Delivery: 1200 New Jersey Avenue SE, Room W12-140, Washington, DC 20590, between 9 a.m. and 5 p.m., Monday through Friday, except Federal Holidays.

Communications received by November 1, 2018 will be considered by FRA before final action is taken. Comments received after that date will be considered if practicable.

Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacyNotice for the privacy notice of regulations.gov.

Issued in Washington, DC.
Robert C. Lauby,
Associate Administrator for Railroad Safety Chief Safety Officer.

[FR Doc. 2018-20134 Filed 9-14-18; 8:45 am]

BILLING CODE 4910-06-P